DEPARTMENT OF TRANSPORTATION

Pipeline and Hazardous Materials Safety Administration

Office of Hazardous Materials Safety; Notice of Applications for Modification of Special Permit

AGENCY: Pipeline and Hazardous Materials Safety Administration, DOT.

ACTION: List of Applications for Modification of Special Permit.

SUMMARY: In accordance with the procedures governing the application for, and the processing of, special permits from the Department of Transportation's Hazardous Material Regulations (49 CFR Part 107, Subpart B), notice is hereby given that the Office of Hazardous Materials Safety has received the application described herein. This notice is abbreviated to expedite docketing and public notice. Because the sections affected, modes of transportation, and the nature of application have been shown in earlier Federal Register publications, they are not repeated here. Request of modifications of special permits (e.g. to provide for additional hazardous materials, packaging design changes, additional mode of transportation, etc.) are described in footnotes to the application number. Application numbers with the suffix “M” denote a modification request. These applications have been separated from the new applications for special permits to facilitate processing.

DATES: Comments must be received on or before March 7, 2007.

Address Comments to: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, Nassif Building, 400 7th Street, SW., Washington, DC or at http://dms.dot.gov.

This notice of receipt of applications for modification of special permits is published in accordance with Part 107 of the Federal hazardous materials transportation law (49 U.S.C. 5117(b); 49 CFR 1.53(b)).

Issued in Washington, DC, on February 7, 2007.
Delmer F. Billings,
Director, Office of Hazardous Materials, Special Permits & Approvals.

Application No. | Docket No. | Applicant | Regulation(s) affected | Nature of special permit thereof
MODIFICATION SPECIAL PERMITS
8915-M |  | Matheson Tri Gas | 49 CFR 173.302a(a)(3); 173.301(d); 173.302a(a)(5) | To modify the special permit to authorize the transportation in commerce of additional Division 2.1 materials in DOT Specification 3A, 3AA, 3AX, 3AAX and 3T cylinders.
10885-M |  | U.S. Department of Energy, Washington, DC | 49 CFR 172.101 Col. 9(b), 172.204(c)(3); 173.27(b)(2); 173.27(f) Table 2; 175.30(a)(1); 173.27(b)(3) | To modify the special permit to authorize the transportation in commerce of additional hazardous materials and to provide relief from segregation by highway.
12274-M | 1999-5707 | Snow Peak, Inc., Clackamas, OR | 49 CFR 172.301, 173.302a(b)(2), (b)(3) and (b)(4); 180.205(c) and (g) and 180.209(a) | To modify the special permit to authorize larger non-DOT specification nonrefillable inside containers.
12283-M | 1999-5767 | Interstate Battery of Alaska, Anchorage, AK | 49 CFR 173.159(c)(1); 173.159(c) | To modify the special permit to authorize the round trip transportation in commerce of batteries within the State of Alaska.
12571-M | 2000-8315 | Air Products & Chemicals, Inc., Allentown, PA | 49 CFR 173.304(a)(2); 180.209 | To modify the special permit to authorize markings on the sides of the trailers rather than on each individual tube.
13167-M |  | ITT Industries Space, Systems, LLC, Rochester, NY | 49 CFR 173.301(f); 173.304 | To modify the special permit to authorize an additonal non-DOT specification packaging.
14392-M |  | Department of Defense, Ft. Eustis, VA | 49 CFR 172.101 Column (10B); 176.65, 176.83(a)(b)(g), 176.84(c)(2); 176.136; and 176.144(a) | To reissue the special permit of originally issued on an emergency basis for the transportation in commerce of explosives by vessel in an alternative stowage configuration.
14466-M | 2007-27095 | Northern Air Cargo, Anchorage, AK | 49 CFR 172.101 Column (9B) | To reissue the special permit originally issued on an emergency basis for the transportation in commerce of certain Class I explosive materials which are forbidden for transportation by air, to be transported by cargo aircraft within the State of Alaska when other means of transportation are impracticable or not available.

[FR Doc. 07-733 Filed 2-16-07; 8:45 am]

BILLING CODE 4909-60-M